FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 15, 2024.

A. Federal Reserve Bank of St. Louis (Holly A. Rieser, Senior Manager) P.O. Box 442, St. Louis, Missouri 63166-2034. Comments can also be sent electronically to Comments.applications@stls.frb.org:

1. The Daniel D. Fleming Trust, dated October 17, 1997, Daniel D. Fleming, as trustee and individually, both of Carlinville, Illinois; The William D. Fleming Revocable Trust, William D. Fleming, as trustee and individually, The Andrew W. Fleming Trust, Andrew W. Fleming, as trustee, Bailey D. Fleming Living Trust, Bailey D. Fleming, as trustee, The Jacob W. Fleming Trust, Jacob W. Fleming, as trustee and individually, Minor Child A, Andrew W. Fleming, as custodian, Minor Child B, Andrew W. Fleming, as custodian, Minor Child C, Jacob W. Fleming, as custodian, Minor Child D, Jacob W. Fleming, as custodian, Minor Child E, Jacob W. Fleming, as custodian, all of Litchfield, Illinois; and The Eaden Fleming Trust, Eaden Danae Nellyn Fleming, as trustee, Mt. Olive, Illinois; as the Fleming Family Control Group, a group acting in concert, to retain voting shares of LBT Bancshares, Inc., and thereby indirectly retain voting shares of Bank & Trust Company, both of Litchfield, Illinois, and Security Bancshares, Inc., which controls Security National Bank, both of Witt, Illinois.

Board of Governors of the Federal Reserve System.
Erin Cayce,
Assistant Secretary of the Board.

[FR Doc. 2024-06757 Filed 3-28-24; 8:45 am]

BILLING CODE P